DEPARTMENT OF HEALTH AND HUMAN SERVICES

Substance Abuse and Mental Health Services Administration

Fiscal Year (FY) 2024 Notice of Supplemental Funding Opportunity

AGENCY: Substance Abuse and Mental Health Services Administration, Department of Health and Human Services (HHS).

ACTION: Notice of intent to award supplemental funding.

SUMMARY: This notice is to inform the public that the Substance Abuse and Mental Health Services Administration (SAMHSA) is supporting administrative supplements in scope of the parent award for the 12 eligible grant recipients funded in FY 2022 under the Tribal Behavioral Health Grant Program (Short Title: Native Connections), Notice of Funding Opportunity (NOFO) SM-21-011. Recipients may receive up to $77,500 each for a total of $930,000 across the grant cohort. These recipients have a project end date for these supplemental funds of September 29, 2025. The supplemental funding will be used to fund a comprehensive Training of Trainers (ToT) model to enhance and expand workforce development and capacity in the areas of focus of the TBH program: preventing and reducing substance use, overdose, suicidal behavior, suicide, and addressing the impact of trauma among American Indian/Alaska Native (AI/AN) youth, up to and including age 24.

FOR FURTHER INFORMATION CONTACT: Shannon Hastings, NOFO Lead, Division of Targeted Prevention, Center for Substance Abuse Prevention, Substance Abuse and Mental Health Services Administration, 5600 Fishers Lane, Rockville, MD 20857, email: DTP-NOFO@samhsa.hhs.gov.

SUPPLEMENTARY INFORMATION:

Funding Opportunity Title: FY 2021 Tribal Behavioral Health Grant Program (Short Title: Native Connections) SM-21-011.

Assistance Listing Number: 93.243.

Authority: Sections 520A (290bb-32) and 516 (290bb-22) of the Public Health Service Act, as amended.

Justification: These supplement awards will be offered to the FY 2022 cohort under the Tribal Behavioral Health/Native Connections (SM-21-011) program supporting recipients in developing and establishing a ToT comprehensive program based on a culturally appropriate curriculum (developed by the recipient) that leverages lessons learned from recipient's current substance use, overdose, and suicide prevention activities. Utilizing a ToT Model is a low-cost approach to advancing evidenced-based prevention interventions while rapidly building a network of multiple knowledgeable and skilled trainers and thus enhancing tribal workforce capacity and reach. Trainers can rapidly support a broader reach, rapid dissemination, and increased sustainability among AI/AN communities. Empowering participants from within and reflective of the communities served to take part in designing and implementing programs can expand proper identification and address specific needs, rather than following top-down, prescriptive approaches. This cascade effect can effectively eliminate barriers and enhance engagement.

This is not a formal request for application. Assistance will only be provided to the 12 Native Connections grant recipients funded in FY 2022 under the Tribal Behavioral Health Grant Program, NOFO (SM-21-011) based on the receipt of a satisfactory application and associated budget that is approved by a review group.

Date: August 15, 2024.
Ann Ferrero,
Public Health Analyst.

[FR Doc. 2024-18638 Filed 8-20-24; 8:45 am]

BILLING CODE 4162-20-P